DEPARTMENT OF EDUCATION

Applications for New Awards; Teacher and School Leader Incentive Program

AGENCY: Office of Innovation and Improvement, Department of Education.

ACTION: Notice.

Overview Information

Teacher and School Leader Incentive Program (TSL) Notice inviting applications for new awards for fiscal year (FY) 2017.

Catalog of Federal Domestic Assistance (CFDA) Number: 84.374A.

Dates:

Applications Available: December 20, 2016.

Deadline for Notice of Intent to Apply: February 4, 2017.

Dates of Pre-Application Workshops: For information about pre-application workshops, visit the TSL Web site at: http://innovation.ed.gov/what-we-do/teacher-quality/teacher-incentive-fund/.

Deadline for Transmittal of Applications: March 24, 2017.

Deadline for Intergovernmental Review: April 23, 2017.

Full Text of Announcement

I. Funding Opportunity Description

Purpose of Program: The purpose of TSL is to assist States, local educational agencies (LEAs), and nonprofit organizations to develop, implement, improve, or expand comprehensive performance-based compensation systems or human capital management systems for teachers, principals, and other school leaders (especially for teachers, principals, and other school leaders in high-need schools) who raise student academic achievement and close the achievement gap between high- and low-performing students. In addition, a portion of TSL funds are dedicated to study the effectiveness, fairness, quality, consistency, and reliability of performance-based compensation systems or human capital management systems for teachers, principals, and other school leaders.

Background:

The Elementary and Secondary Education Act of 1965 (ESEA), as reauthorized on December 10, 2015, by the Every Student Succeeds Act (ESSA),¹ established the Teacher and School Leader Incentive Fund (TSL) program. TSL builds on the former Teacher Incentive Fund (TIF) program and promotes Performance-Based Compensation Systems (PBCSs) ² and comprehensive Human Capital Management Systems (HCMSs) that support teachers, principals, and other school leaders (i.e., Educators as used in this notice). In recognition of the importance that effective school leadership has on student achievement, TSL also promotes comprehensive Evaluation and Support Systems for all Educators within an LEA, especially those serving in high-need schools. In addition, TSL seeks to contribute to the body of knowledge regarding impactful approaches to enhancing Educator effectiveness by promoting the study of the efficacy, fairness, quality, consistency, and reliability of these systems to support Educators through an independent, Department-led evaluation to assess the program's effectiveness and relevant lessons learned. Further, the Department seeks to ensure that the design of the TSL competition reflects the new provisions of the TSL statute in ESEA sections 2211-2213, as well as the lessons learned from 10 years of implementing the TIF program.

¹ Unless otherwise noted, references in this notice to sections of the ESEA as reauthorized by ESSA are identified as sections of the ESEA.

² Throughout this notice, all defined terms are denoted with capitals.

Results from the TIF program have varied across and within the portfolio of five cohorts of TIF grantees, comprised of over 140 grantees that received a total of about $2 billion in grant awards. Successful TIF grantees implemented comprehensive efforts to help teachers and principals learn and grow throughout their professional trajectories. Successful TIF grantees also considered recruitment, induction, support and career development, and growth and leadership opportunities aligned with the LEA's overall improvement strategy; and they used multi-measure evaluation systems to inform the development of innovative incentives and structures that support teachers' and principals' growth and advancement. LEAs also used TIF funds to develop their cadre of leaders.

With the priorities, requirements, definitions, and selection criterion used for this competition, we seek to build on the efforts of the TIF program and abundant research over two decades showing that teachers and teacher effectiveness are the most critical in-school factors in improving student outcomes.³

³ Aaronson, Daniel, Barrow, Lisa, & Sander, William, “Teachers and Student Achievement in the Chicago Public High Schools.” (2007), Journal of Labor Economics, 25(1), 95-135; Rivkin, Steven, Hanushek, Eric & Kain, John, “Teachers, Schools, and Academic Achievement.” (2005), Econometrica, 73(2), 417-458.

In addition, we have learned that effective principals and other School Leaders are crucial to strengthening teaching and school communities, and play a critical role in students' academic success—especially in high-need schools—by creating cultures of high expectations.⁴ Indeed, teachers cite a principal's support and effectiveness as a leading factor that contributes to their decision to remain in the profession.⁵ Effective School Leaders directly impact the quality of instruction through hiring decisions of school personnel that provide instructional leadership, support, and develop teachers—which, in turn, can help teachers focus their efforts on student learning.⁶ Effective School Leaders also create a vision of academic success for all children in their schools and encourage other Educators to take on leadership roles and responsibilities.

⁴ “Impact Evaluation of Support for Principals,” http://ies.ed.gov/ncee/projects/evaluation/tq_principals.asp (2014); Leithwood, Kenneth, et al., “How Leadership Influences Student Learning: Review of Research” (2004) New York: The Wallace Foundation, available at http://www.wallacefoundation.org/knowledge-center/Documents/How-Leadership-Influences-Student-Learning.pdf.

⁵ Ingersoll, Richard. “Teacher Turnover, Teacher Shortages, and the Organization of Schools.” University of Washington. (2001).

⁶ Papa, Frank, Hamilton Lankford, and James Wyckoff, “Hiring Teachers in New York's Public Schools: Can the Principal Make a Difference?” University (2008) available at Albany, SUNY. www.tandfonline.com/doi/full/10.1080/15700760701655524?mobileUi=0&; Wallace Foundation, “The School Principal as Leader: Guiding Schools to Better Teaching and Learning” (2013 available at www.wallacefoundation.org/knowledge-center/Documents/The-School-Principal-as-Leader-Guiding-Schools-to-Better-Teaching-and-Learning-2nd-Ed.pdf; Ikemoto, Gina, et al., New Leaders, “Playmakers: How great principals build and lead great teams of teachers”(2012) available at www.newleaders.org/wp-content/uploads/Playmakers.pdf.

Given the importance of ensuring that Educators are as effective as possible—especially in high-need schools, where equal educational opportunity is particularly important for historically underserved students—TSL is designed to utilize PBCSs and other supports for Educators as a central part of an LEA's effort to improve student academic achievement. Indeed, the TSL statute gives priority to applicants that propose to focus supports on Educators in High-Need Schools. By providing Educators with PBCSs, in which performance-based compensation may include robust career ladder opportunities for effective Educators, TSL aims to reward Educators for their effectiveness and improved student outcomes.

Recent cohorts of TIF grantees expanded LEA teacher and principal evaluation systems to include all teachers and principals in a given LEA, and measured educator performance using multiple factors, including classroom observations and gains in student academic achievement. Using the information generated from these more comprehensive teacher and principal evaluation systems, successful TIF grantees began to transform how effective teachers and principals were compensated, moving beyond the episodic performance-based bonuses that were more typical of early TIF cohorts. Recent cohorts of TIF grantees also began complementing their compensation incentives with non-compensation supports in order to build stronger support systems throughout teachers' and principals' trajectory, from pre-service through retention. These strategies included using teacher and principal evaluation systems to inform decisions about recruitment, retention, tenure, compensation, support, and leadership potential.

Successful TIF grantees also demonstrated that implementing successful Educator Evaluation and Support Systems that inform performance-based compensation can occur across a wide range of contexts. However, based on reports from grantees and from evaluations of early TIF cohorts, the most promising TIF-supported efforts appear to be those that are designed to support instructional improvements through use of classroom and school-level data, to create a shared understanding of effective classroom-level practices.

In recent years, many States and LEAs have developed high-quality Educator Evaluation and Support systems as part of their efforts to improve LEAs' hiring practices, provide Educators with meaningful feedback and targeted professional development, and use information on Educator performance to inform key school- and district-level decisions. As such, an increasing number of LEAs are well-equipped to make human capital decisions that both support Educators and improve student outcomes. In view of the work and resources that many LEAs have already invested in an HCMS, PBCS, and Educator Evaluation and Support Systems that already meet provisions of the TSL statute, and the desire to have make awards to applicants who are ready to expand upon their existing work, we have structured this competition to permit LEAs to build upon and improve existing HCMS, PBCS, and Educator Evaluation and Support Systems that meet the definitions of these terms in this notice that come from the TSL statute. Doing so could include efforts to improve the Educator Evaluation and Support Systems (e.g., make them even more fair, reliable, and credible; better align formative and summative assessments with college- and career-ready standards; or provide more mentoring and coaching to support Educators) as well as efforts to have the HCMS and Educator Evaluation and Support Systems address new challenges or opportunities (e.g., partnering with institutions of higher education to strengthen pre-service programming or creating a teacher residency program, including one that is consistent with the definition of the term in section 2002(5) of the ESEA.) The Department encourages applicants to reflect these types of efforts in their TSL applications.

Moreover, much work remains to ensure that students, particularly those whose families live in poverty, have equitable access to the most effective Educators. In order to help ensure that every public school student has equitable access to excellent Educators, in 2014 the Department asked each State educational agency (SEA) to submit a State Plan to Ensure Equitable Access to Excellent Educators describing how it will ensure that “poor and minority children are not taught at higher rates than other children by inexperienced, unqualified, or out-of-field teachers,” as formerly required by section 1111(b)(8)(C) of the ESEA, as reauthorized by the No Child Left Behind Act (now section 1111(g)(1)(B) of the ESEA, as amended by ESSA). All 50 States, the District of Columbia, and the Commonwealth of Puerto Rico developed plans that the Department approved in 2015. States began to implement these plans in the 2015-16 school year. Several of the States' proposed approaches reflected in these plans include performance-based compensation, including strategies such as career pathways that TSL funds could support. Therefore, the Department encourages applicants to align their TSL proposals to their State plans, and has established a priority for this purpose. In addition, given the emerging literature on the importance of educator diversity, the Department encourages applicants to leverage TSL resources to diversify their Educator workforce, and, similarly, has established a second priority for this purpose. More information on the importance of educator workforce diversity can be found in the Department's report on The State of Racial Diversity in the Educator Workforce at the following link: https://www2.ed.gov/rschstat/eval/highered/racial-diversity/state-racial-diversity-workforce.pdf.

Historically, the TIF program focused its efforts on implementing performance-based compensation in high-need schools. Under provisions that include ESEA sections 2211(a) and (b)(2) and 2212(d)(1), TSL continues to ensure that grantees focus their activities on teachers and School Leaders in high-need schools. In this regard, ESEA section 2211(b)(2) defines a High-Need School as a public elementary or secondary school that is located in an area in which the percentage of students from families with incomes below the poverty line is 30 percent or more. The definition of poverty line in ESEA section 8101(41) effectively requires the Department to use poverty line data gathered by the U.S. Census Bureau since no other data that meet this definition are available.

However, the Department has determined that the school-level poverty-line data required by the definition of High-Need School are unavailable; the U.S. Census Bureau reports these data only by LEA. As such, in order to ensure that awards made under this competition still focus on schools that are high-poverty, the Secretary is exercising the orderly transition authority in section 4(b) of ESSA to define a High-Need School for purposes of this competition using the same poverty measure applicable to the definition of a High-Need School for the past three TIF competitions. Since the income of a family below the poverty line is much lower than the income a family needs to enable its children to be eligible for free or reduced-price lunch subsidies under the Richard B. Russell National School Lunch Act (the poverty measure used in all prior TIF competitions), we believe that use of the prior TIF poverty measure to determine which schools are high-need is also a reasonable approach to implementing Congressional intent for TSL.

Priorities: This notice contains four absolute priorities and two competitive preference priorities. We are establishing these priorities, requirements, and definitions for the FY 2017 grant competition, and any subsequent year in which we make awards from the list of unfunded applications from this competition, in accordance with section 437(d)(1) of the General Education Provisions Act (GEPA), 20 U.S.C. 1232(d)(1).

Absolute Priorities: The following priorities are absolute priorities. Under 34 CFR 75.105(c)(3), applications must meet the following absolute priorities in order to be considered for awards:

• Absolute Priority 1: Human Capital Management System; and one of the three following Absolute Priorities:

• Absolute Priority 2: Evaluation and Support Systems for Teachers;

• Absolute Priority 3: Evaluation and Support Systems for School Leaders; or

• Absolute Priority 4: Evaluation and Support Systems for Teachers and School Leaders.

Note: Applicants must indicate in their applications under which absolute priorities they are applying. Applications that do not clearly address Absolute Priority 1 and one of the other absolute priorities (Absolute Priorities 2, 3, or 4) will not be reviewed.

Assuming that applications in each funding category are of sufficient quality, the Secretary intends to award grants under each of the three following funding categories:

(a) Evaluation and Support Systems for Teachers;

(b) Evaluation and Support Systems for School Leaders; and

(c) Evaluation and Support Systems for Teachers and School Leaders.

Applications in each funding category will be peer reviewed, scored based on the selection criteria announced in this notice, and placed in rank order. Consistent with section 2212(d)(2) of the ESEA, to the extent practicable, the Secretary will award an equitable geographic distribution of grants, including the distribution of such grants between rural and urban areas.

The absolute priorities are:

Absolute Priority 1: Human Capital Management System (HCMS). To meet this priority, the applicant must include, in its application, a description of its existing LEA-wide HCMS (or, in the case of a consortium application or an SEA application, the shared HCMS that currently exists across the proposed LEAs that will participate in this project), including a description of its PBCS. In addition, the application must describe—

(1) How the HCMS currently includes an Evaluation and Support System for teachers, School Leaders, or both, that reflects clear and fair measures of performance, based in part on demonstrated improvement in student academic achievement;

(2) Any proposed modifications of the HCMS under the proposed project, including modifications that expand or improve the Evaluation and Support System as defined in this notice;

(3) How the Evaluation and Support System will provide ongoing, differentiated, targeted, and personalized support and feedback for improvement, including professional development opportunities designed to increase effectiveness during the entire project period;

(4) A data system that links Educators with student academic achievement data; and

(5) How the HCMS uses performance information from the Evaluation and Support System to inform key school- and district-level human capital decisions as decisions on preparation, recruitment, hiring, placement, retention, dismissal, compensation (including performance-based compensation), professional development, tenure, and promotion, particularly as they affect Educators working in High-Need Schools in the LEA or LEAs the project will serve.

Note: The described HCMS, PBCS, and the applicable Educator Evaluation and Support Systems must meet the definition of these terms in this notice. In addition, applicants may optionally include other school personnel (e.g., support staff, counselors, and aides) in their HCMS as local circumstances warrant.

Absolute Priority 2: Evaluation and Support Systems for Teachers. To meet this priority, the applicant must include, in its application, a description of how its project would enhance its Evaluation and Support System for teachers in High-Need Schools in the LEA or LEAs the project will serve.

Absolute Priority 3: Evaluation and Support Systems for School Leaders. To meet this priority, the applicant must include, in its application, a description of how its project would enhance its Evaluation and Support System for School Leaders in High-Need Schools in the LEA or LEAs the project will serve.

Absolute Priority 4: Evaluation and Support Systems for Teachers and School Leaders. To meet this priority, the applicant must include, in its application, a description of how its project would enhance its Evaluation and Support System for teachers and School Leaders in High-Need Schools in the LEA or LEAs the project will serve.

Competitive Preference Priorities:

For FY 2017 and any subsequent year in which we make awards from the list of unfunded applications from this competition, the following priorities are competitive preference priorities. Under 34 CFR 75.105(c)(2) we award additional points to an application depending on how well the application meets the competitive preference priorities.

Applicants may apply under one, two, or both competitive preference priorities. An application can receive up to 10 points for meeting Competitive Preference Priority 1 and up to 5 points for meeting Competitive Preference Priority 2, depending on how well the application meets these competitive preference priorities. The maximum total competitive preference priority points an application may receive under this competition is 15.

The competitive preference priorities are:

Competitive Preference Priority 1: Using the HCMS to Improve Equitable Access to Effective Educators (up to 10 points). Projects that are designed to address the most significant gaps or insufficiencies in student access to effective teachers, School Leaders, or both teachers and School Leaders, in High-Need Schools, including gaps or inequities in how effective teachers, School Leaders, or both, are distributed across the LEA or LEAs the project will serve. At minimum, applicants must:

(1) Identify the most significant gaps or insufficiencies in student access to effective teachers, School Leaders, or both, in High-Need Schools, including gaps or inequities in how effective teachers, School Leaders, or both, are distributed across the LEA(s) the project will serve;

(2) Identify relevant factors used in determining such gaps, such as data on availability of school resources, staffing patterns, school climate, and educator support; and

(3) Describe how the strategies proposed for closing the identified gaps are aligned to and are consistent with the strategies identified in the State's Plan to Ensure Equitable Access to Excellent Educators, approved by the Department in 2015.

Competitive Preference Priority 2: Attracting, Supporting, and Retaining a Diverse and Effective Workforce (up to 5 points). Projects that are designed to attract, support, and retain a diverse and effective workforce, including effective teachers, School Leaders, or both, from historically underrepresented populations. At minimum, applicants must provide a description detailing their commitment to creating and maintaining a diverse workforce, and their plan for attracting, supporting, and retaining diverse Educators.

Requirements: The following requirements are from ESEA sections 2212 and 2213:

Requirement 1—Use of Funds:

Each applicant must demonstrate how it will use TSL grant funds to develop, implement, improve, or expand, in collaboration with Educators and members of the public, one or more of the following:

(A) Developing or improving an Evaluation and Support System, including as part of an HCMS, that—

(i) Reflects clear and fair measures of teacher or School Leader performance, or both, based in part on demonstrated improvement in student academic achievement; and

(ii) Provides teachers, or School Leaders, or both, with ongoing, differentiated, targeted, and personalized support and feedback for improvement, including professional development opportunities designed to increase effectiveness.

(B) Conducting outreach within an LEA or a State to gain input on how to construct an Evaluation and Support System and to develop support for the Evaluation and Support System, including by training appropriate personnel in how to observe and evaluate teachers, or School Leaders, or both.

(C) Providing School Leaders with—

(i) Balanced autonomy to make budgeting, scheduling, and other school-level decisions in a manner that meets the needs of the school without compromising the intent or essential components of the policies of the LEA or State; and

(ii) Authority to make staffing decisions that meet the needs of the school, such as building an instructional leadership team that includes teacher leaders or offering opportunities for teams or pairs of effective teachers or candidates to teach or start teaching in High-Need Schools together.

(D) Implementing, as part of a comprehensive PBCS, a differentiated salary structure, which may include bonuses and stipends, to one or both of the following:

(i) Teachers who—

(I) Teach in High-Need Schools or high-need subjects;

(II) Raise student academic achievement; or

(III) Take on additional leadership responsibilities; or

(ii) School Leaders who serve in High-Need Schools and raise student academic achievement in the schools.

(E) Improving the LEA's system and process for the recruitment, selection, placement, and retention of effective teachers, or School Leaders, or both, in High-Need Schools, such as by improving LEA policies and procedures to ensure that High-Need schools are competitive and timely in—

(i) Attracting, hiring, and retaining effective Educators;

(ii) Offering bonuses or higher salaries to effective Educators; or

(iii) Establishing or strengthening School Leader Residency Programs and Teacher Residency Programs.

(F) Instituting career advancement opportunities characterized by increased responsibility and pay that reward and recognize effective teachers, principals, or other School Leaders in High-Need Schools and enable them to expand their leadership and results, such as through teacher-led professional development, mentoring, coaching, hybrid roles, administrative duties, and career ladders.

Requirement 2—Matching:

Each applicant must provide a signed assurance attesting to its intent and ability to meet the TSL requirement in section 2212(f) of the ESEA that the applicant provide, from non-Federal sources, an amount equal to 50 percent of the amount of the grant, which may be provided in cash or in kind, to carry out the activities supported by the grant. Applicants and grantees must budget their matching contributions on an annual basis relative to each annual award of TSL grant funds.

Requirement 3—Documentation of High-Need Schools:

Each applicant must demonstrate, in its application, that at least the majority of schools whose Educators will participate in the implementation of the TSL-funded PBCS are High-Need Schools (as defined in this notice). In doing so, each applicant must provide, in its application—

(a) A list of schools in which the proposed TSL-supported PBCS would be implemented, and an identification of which of these schools are High-Need Schools;

(b) For each High-Need School listed, the most current data on the percentage of students who are eligible for free or reduced-price lunch subsidies under the Richard B. Russell National School Lunch Act, or are considered students from low-income families based on another poverty measure that the LEA uses under section 1113(a)(5) of the ESEA (20 U.S.C. 6313(a)(5)); and

(c) A description of the applicant's rationale for extending the TSL-funded PBCS to any Educators who are not working in High-Need Schools.

Note: Data provided to demonstrate eligibility as a High-Need School must be school-level data; the Department will not accept LEA- or State-level data for purposes of documenting whether a school is a High-Need School.

Definitions: The definitions of Evaluation and Support System, Evidence-Based, Human Capital Management System (HCMS), Performance-Based Compensation System, School Leader, School Leader Residency Program, and Teacher Residency Program are from sections 2002, 2211, 2212, 8101(21), and 8101(44) of the ESEA. The definition of High-Need School is based on definitions of the term used in the 2012 and 2016 TIF competitions but, like the definition in section 2211(b) of the ESEA, focuses only on the extent of family poverty of the students the school serves. We are establishing the definitions for Correlational Study with Statistical Controls for Selection Bias, Demonstrates a Rationale, Educators, Experimental Study, Large Sample, Logic Model, Meets What Works Clearinghouse Evidence Standards with Reservations, Meets What Works Clearinghouse Evidence Standards without Reservations, Moderate Evidence, Multi-Site Sample, Project Component, Promising Evidence, Quasi-Experimental Design Study, Randomized Controlled Trial, Regression Discontinuity Design Study, Relevant Finding, Relevant Outcome, Single-Case Design Study, and Strong Evidence for the FY 2017 grant competition only, in accordance with section 437(d)(1) of GEPA, 20 U.S.C. 1232(d)(1).

Correlational Study with Statistical Controls for Selection Bias means a study that (1) estimates how a relevant outcome varies with the receipt of a project component, and (2) uses sampling of analysis methods (e.g., multiple regression) to account for at least some of the differences between the groups being compared.

Demonstrates a Rationale means the project component is supported by a reasonable logic model that is informed by research or an evaluation that suggests how the project component is likely to improve relevant outcomes.

Educator means a teacher, principal or other School Leader.

Evaluation and Support System means a system that is fair, rigorous, valid, reliable, and objective and reflects clear and fair measures of teacher, principal, or other School Leader performance, based in part on demonstrated improvement in student academic achievement; and provides teachers, principals, or other School Leaders with ongoing, differentiated, targeted, and personalized support and feedback for improvement, including professional development opportunities designed to increase effectiveness. (ESEA Section 2212(c)(4) and (e)(2)(A))

Evidence-Based means the proposed activity, strategy, or intervention is: supported by strong evidence, supported by moderate evidence, supported by promising evidence, or demonstrates a rationale. (ESEA section 8101(21))

Experimental Study means a study, such as a Randomized Controlled Trial (RCT), that is designed to compare outcomes between two groups of individuals that are otherwise equivalent except for their assignment to either a treatment group receiving a project component or a control group that does not. In some circumstances, a finding from a Regression Discontinuity Design Study (RDD) or findings from a collection of Single-Case Design Studies (SCDs) may be considered equivalent to a finding from an RCT. RCTs and RDDs, and collections of SCDs, depending on design and implementation, can Meet What Works Clearinghouse Evidence Standards without Reservations.

High-Need School means a school with 50 percent or more of its enrollment from low-income families, based on eligibility for free or reduced-price lunch subsidies under the Richard B. Russell National School Lunch Act, or other poverty measures that LEAs use consistent with ESEA section 1113(a)(5) (20 U.S.C. 6313(a)(5). For middle and high schools, eligibility may be calculated on the basis of comparable data from feeder schools. Eligibility as a High-Need School under this definition is determined on the basis of the most currently available data.

Human Capital Management System (HCMS) means a system—

(A) By which a LEA makes and implements human capital decisions, such as decisions on preparation, recruitment, hiring, placement, retention, dismissal, compensation, professional development, tenure, and promotion; and

(B) That includes a Performance-Based Compensation System. (ESEA section 2211(b)(3))

Large Sample means an analytic sample of 350 or more students (or other single analysis units), or 50 or more groups (such as classrooms or schools) that each contain, on average, 10 or more students (or other single analysis units, regardless of whether these single analysis units are disaggregated in the analysis of outcomes for the groups). Multiple studies can cumulatively meet the Multi-Site Sample and Large Sample requirements of Moderate Evidence or Strong Evidence, as long as each study meets the other requirements of the particular level of evidence (i.e., Moderate Evidence or Strong Evidence).

Logic Model (also known as a theory of action) means a reasonable conceptual framework that identifies key components of the proposed project (i.e., the active “ingredients” that are hypothesized to be critical to achieving the relevant outcomes) and describes the theoretical and operational relationships among the key components and outcomes.

Meets What Works Clearinghouse Evidence Standards without Reservations is the highest possible rating for a study finding reviewed by the What Works Clearinghouse (WWC). Studies receiving this rating provide the highest degree of confidence that an estimated effect was caused by the project component studied. Experimental studies (as defined above) may receive this highest rating. These standards are described in the WWC Procedures and Standards Handbooks, Version 3.0, which can be accessed at http://ies.ed.gov/ncee/wwc/Handbooks.

Meets What Works Clearinghouse Evidence Standards with Reservations is the second-highest rating for a group design study reviewed by the WWC. Studies receiving this rating provide a reasonable degree of confidence that an estimated effect was caused by the project component studied. Both Experimental Studies (such as Randomized Controlled Trials with high rates of sample attrition) and Quasi-Experimental Design Studies (as defined below) may receive this rating if they establish the equivalence of the treatment and comparison groups in key baseline characteristics. These standards are described in the WWC Procedures and Standards Handbooks, Version 3.0, which can be accessed at http://ies.ed.gov/ncee/wwc/Handbooks.http://ies.ed.gov/ncee/wwc/Handbooks.

Moderate Evidence means the following conditions are met:

(a) There is at least one Experimental or Quasi-Experimental Design Study of the effectiveness of the project component with a Relevant Finding that Meets What Works Clearinghouse Evidence Standards With or without Reservations (e.g., a Quasi-Experimental Design Study or high-attrition Randomized Controlled Trial that establishes the equivalence of the treatment and comparison groups in student achievement at baseline);

(b) The Relevant Finding in the study described in paragraph (a) of this definition is of a statistically significant and positive (i.e., favorable) effect on a student outcome or other Relevant Outcome, with no statistically significant and overriding negative (i.e., unfavorable) evidence on that project component from other findings reviewed by and reported in the What Works Clearinghouse that Meet What Works Clearinghouse Evidence Standards with or without Reservations;

(c) The Relevant Finding in the study described in paragraph (a) of this definition is based on a sample that overlaps with the populations (e.g., the types of student served) or settings proposed to receive the project component (e.g., an after-school program studied in urban high schools and proposed for rural high schools); and

(d) The Relevant Finding in the study described in paragraph (a) of this definition is based on a Large Sample and a Multi-Site Sample.

Multi-Site Sample means more than one site, where site can be defined as a local educational agency (LEA), locality, or State. A sample could be multi-site if it includes campuses in two or more localities (e.g., cities or counties), even if the campuses all belong to the same LEA or postsecondary school system. Multiple studies can cumulatively meet the Multi-Site Sample and Large Sample requirements of Moderate Evidence or Strong Evidence, as long as each study meets the other requirements of the particular level of evidence (i.e. Moderate Evidence or Strong Evidence).

Performance-Based Compensation System (PBCS) means a system of compensation for teachers, principals, or other School Leaders—

(A) That differentiates levels of compensation based in part on measurable increases in student academic achievement; and

(B) Which may include—

(i) Differentiated levels of compensation, which may include bonus pay, on the basis of the employment responsibilities and success of effective teachers, principals, or other School Leaders in hard-to-staff schools or high-need subject areas; and

(ii) Recognition of the skills and knowledge of teachers, principals, or other School Leaders as demonstrated through—

(I) Successful fulfillment of additional responsibilities or job functions, such as teacher leadership roles; and

(II) Evidence of professional achievement and mastery of content knowledge and superior teaching and leadership skills. (ESEA section 2211(b)(4))

Project Component means an activity, strategy, or intervention included in a project. Evidence may pertain to an individual project component, or to a combination of project components (e.g., training teachers on instructional practices for English learners and follow-on coaching for these teachers).

Promising Evidence means the following conditions are met:

(a) There is at least one study that is a Correlational Study with Statistical Controls for selection bias with a Relevant Finding; and

(b) The Relevant Finding in the study described in paragraph (a) of this definition is of a statistically significant and positive (i.e., favorable) effect of the Project Component on a student outcome or other Relevant Outcome with no statistically significant and overriding negative (i.e., unfavorable) evidence on that Project Component from other findings on the intervention reviewed by and reported in the What Works Clearinghouse that Meets What Works Clearinghouse Evidence Standards with or without Reservations.

Quasi-Experimental Design Study (QED) means a study using a design that attempts to approximate an Experimental Design by identifying a comparison group that is similar to the treatment group in important respects. This type of study, depending on design and implementation, can Meet What Works Clearinghouse Evidence Standards with Reservations (but not without Reservations).

Randomized Controlled Trial (RCT) means a study that employs random assignment of, for example, students, teachers, classrooms, or schools, to receive the Project Component being evaluated (the treatment group) or not to receive the Project Component (the control group). The estimated effectiveness of the Project Component is the difference between the average outcomes for the treatment group and for the control group. These studies, depending on design and implementation, can Meet What Works Clearinghouse Evidence Standards without Reservations.

Regression Discontinuity Design Study (RDD) means a study that assigns the Project Component being evaluated using a measured variable (e.g., assigning students reading below a cutoff score to tutoring or developmental education classes) and controls for that variable in the analysis of outcomes. The effectiveness of the Project Component is estimated for individuals who barely qualify to receive that component. These studies, depending on design and implementation, can Meet What Works Clearinghouse Evidence Standards without Reservations.

Relevant Finding means a finding from a study regarding the relationship between (A) an activity, strategy, or intervention included as a component of the Logic Model for the proposed project, and (B) a student outcome or other Relevant Outcome included in the Logic Model for the proposed project.

Relevant Outcome means the student outcome(s) (or the ultimate outcome if not related to students) the proposed Project Component is designed to improve, consistent with the specific goals of a program.

School Leader means a principal, assistant principal, or other individual who is:

(A) An employee or officer of an elementary school or secondary school, LEA, or other entity operating an elementary school or secondary school; and

(B) Responsible for the daily instructional leadership and managerial operations in the elementary school or secondary school building. (ESEA section 8101(44))

School Leader Residency Program means a school-based principal or other School Leader preparation program in which a prospective principal or other school leader—

(A) For one academic year, engages in sustained and rigorous clinical learning with substantial leadership responsibilities and an opportunity to practice and be evaluated in an authentic school setting; and

(B) During that academic year—

(i) Participates in Evidence-Based coursework, to the extent the State (in consultation with LEAs in the State) determines that such evidence is reasonably available, that is integrated with the clinical residency experience; and

(ii) Receives ongoing support from a mentor principal or other school leader, who is effective. (ESEA section 2002(1))

Single-case Design Study (SCD) means a study that uses observations of a single case (e.g., a student eligible for a behavioral intervention) over time in the absence and presence of a controlled treatment manipulation to determine whether the outcome is systematically related to the treatment. According to the WWC Single Case Design Pilot Standards, a collection of these studies, depending on design and implementation (e.g., including a sufficient number of cases and of data points per condition), can Meet What Works Clearinghouse Evidence Standards without Reservations.

Strong Evidence means the following conditions are met:

(a) There is at least one Experimental Study (e.g., a Randomized Controlled Trial) of the effectiveness of the Project Component that has a Relevant Finding that Meets the What Works Clearinghouse Evidence Standards without Reservations (e.g., a randomized controlled trial with low rates of sample attrition overall and between the treatment and control groups);

(b) The Relevant Finding in the study described in paragraph (a) of this definition is of a statistically significant and positive (i.e., favorable) effect on a student outcome or other Relevant Outcome, with no statistically significant and overriding negative (i.e., unfavorable) evidence on that Project Component from other findings that Meet What Works Clearinghouse Evidence Standards with or without Reservations;

(c) The Relevant Finding in the study described in paragraph (a) of this definition is based on a sample that overlaps with the populations (e.g., the types of student served) and settings proposed to receive the Project Component (e.g., an after-school program both studied in, and proposed for, urban high schools); and

(d) The Relevant Finding in the study described in paragraph (a) of this definition is based on a Large Sample and a Multi-Site Sample.

Teacher Residency Program means a school-based teacher preparation program in which a prospective teacher—

(A) For not less than one academic year, teaches alongside an effective teacher, as determined by the State or LEA, who is the teacher of record for the classroom;

(B) Receives concurrent instruction during the year described in subparagraph (A)—

(i) Through courses that may be taught by LEA personnel or by faculty of the teacher preparation program; and

(ii) In the teaching of the content area in which the teacher will become certified or licensed; and

(C) Acquires effective teaching skills, as demonstrated through completion of a residency program, or other measure determined by the State, which may include a teacher performance assessment. (ESEA section 2002(5))

Waiver of Proposed Rulemaking: Under the Administrative Procedure Act (5 U.S.C. 553), the Department generally offers interested parties the opportunity to comment on proposed priorities, definitions, and requirements. Section 437(d)(1) of GEPA, however, allows the Secretary to exempt from rulemaking requirements, regulations governing the first grant competition under a new or substantially revised program authority. This is the first grant competition under sections 2211-2213 of the ESEA, as amended by the ESSA, and therefore qualifies for this exemption. In order to ensure timely grant awards, the Secretary has decided to forego public comment on the priorities, requirements, and definitions under section 437(d)(1) of GEPA. These priorities, requirements, and definitions will apply to the FY 17 grant competition and any subsequent year in which we make awards from the list of unfunded applications from this competition.

Program Authority: Sections 2211-13 of the ESEA.

Applicable Regulations: (a) The Education Department General Administrative Regulations in (EDGAR) 34 CFR parts 75, 77, 79, 81, 82, 84, 86, 97, 98, and 99. (b) The Office of Management and Budget (OMB) Guidelines to Agencies on Government-wide Debarment and Suspension (Non-procurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Discretionary grants.

Estimated Available Funds: $159 million.

For FY 2017, the Administration has requested $250,000,000 under TSL. We intend to use an estimated $159,000,000 of this funding for new awards under this competition. The actual level of funding, if any, depends on final congressional action. However, we are inviting applications now to allow enough time to complete the grant process if Congress appropriates funds for this program. Contingent upon the availability of funds and the quality of applications, we may make additional awards in future years from the list of unfunded applications from this competition.

Estimated Range of Awards: $500,000-$12,000,000 for the first year of the project period.

Note: The Department estimates a wide range of awards given the potentially large differences in the scope of funded projects, including the size and number of participating LEAs.

Estimated Average Size of Awards: $10,000,000 for the first year of the project period. Funding for the second through fifth years of the project period is subject to the availability of funds and the approval of continuation awards (see 34 CFR 75.253).

Estimated Number of Awards: 15-20.

Note: The Department is not bound by any estimates in this notice.

Project Period: Up to 36 months, with renewal of up two additional years if the grantee demonstrates to the Secretary that the grantee is effectively using funds. Such renewal may include allowing the grantee to scale up or replicate the successful program. Consistent with ESEA section 2212(b)(3), a grantee may receive a TSL grant (whether individually or as part of a consortium or partnership) only twice.

III. Eligibility Information

1. Eligible Applicants:

(a) An LEA, including a charter school that is an LEA, or a consortium of LEAs.

(b) An SEA or other State agency designated by the Chief Executive of a State to participate.

(c) The Bureau of Indian Education; or

(d) A partnership consisting of—

(i) One or more agencies described in subparagraph (a), (b), or (c); and

(ii) At least one nonprofit organization as defined in 2 CFR 200.70 or at least one for-profit entity.

2. Cost Sharing or Matching:

a. Matching: Under section 2212(f) of the ESEA, each grant recipient must provide, from non-Federal sources an amount equal to 50 percent of the amount of the grant (which may be provided in cash or in kind) to carry out the activities supported by the grant. Each applicant will be required to provide a signed assurance attesting to its intent and ability to meet the matching requirement.

b. Supplement-Not-Supplant: This program involves supplement-not-supplant funding requirements. In accordance with section 2212(g) of the ESEA, funds made available under this program must be used to supplement, and not supplant, other Federal or State funds that would otherwise be expended to carry out activities under this program. The Secretary considers all schools funded by the Department of Interior's Bureau of Indian Education to be LEAs, and the funds that these schools receive from the Department of Interior's annual appropriation to be neither Federal nor State funds. Further, the prohibition against supplanting also means that grantees seeking to charge indirect costs to TSL funds will need to use their negotiated restricted indirect cost rates. See 34 CFR 75.563.

3. Other: Application Requirements:

All applicants must meet the following application requirements in order to be considered for funding. The application requirements are from ESEA section 2212(c).

Each eligible applicant desiring a grant under this program must submit an application that contains—

(a) A description of the PBCS or HCMS that the eligible applicant proposes to develop, implement, improve, or expand through the grant;

(b) A description of the most significant gaps or insufficiencies in student access to effective teachers, principals, or other School Leaders in High-Need Schools, as applicable to the proposed project, including gaps or inequities in how effective teachers, principals, or other School Leaders are distributed across the LEA, as identified using factors such as data on school resources, staffing patterns, school environment, educator support systems, and other school-level factors;

(c) A description and evidence of the support and commitment from teachers, principals, or other School Leaders, as applicable to the proposed project, which may include charter school leaders, in the school (including organizations representing teachers, principals, or other school leaders), the community, and the LEA to the activities proposed under the grant;

(d) A description of how the eligible applicant will develop and implement a fair, rigorous, valid, reliable, and objective process to evaluate teacher, principal, or other school leader performance, as applicable to the proposed project, under the system that is based in part on measures of student academic achievement, including the baseline performance against which evaluations of improved performance will be made;

(e) A description of the LEAs or schools to be served under the grant, including student academic achievement, demographic, and socioeconomic information as identified in the application package for this program;

(f) A description of the effectiveness of teachers, principals, or other School Leaders, as applicable to the proposed project, in the LEA or LEAs and the schools to be served under the grant, and the extent to which the system will increase the effectiveness of teachers, principals, or other School Leaders in such schools;

(g) A description of how the eligible applicant will use grant funds in each year of the grant, including a timeline for implementation of key grant activities;

(h) A description of how the eligible applicant will continue the activities assisted under the grant after the grant period ends;

(i) A description of the State, local, or other public or private funds that will be used to supplement the grant, including funds under Title II, part A of the ESEA, and sustain the activities assisted under the grant after the end of the grant period;

(j) A description of the rationale for the project; how the proposed activities are evidence-based; and if applicable the prior experience of the eligible entity in developing and implementing such activities.

Note: In order to demonstrate that the activities are evidence-based, an applicant may, among other things, provide supporting documentation for the study or studies that serve as the evidence base for one or more of the activities that will be implemented as part of the proposed project. Additionally, we encourage applicants to demonstrate in their application that at least one of the activities to be implemented as part of their proposed project is based on Promising Evidence (as defined in this notice). In recent years, the TIF program has released various reports that document the value of, and explore the implementation of, an HCMS ⁷ that includes a PBCS.⁸ In addition, other recent research also explores TSL-type activities. We encourage applicants to include evidence-based activities when considering the full set of TSL activities, such as:

⁷ Springer, M.G., Ballou, D., & Peng, A. (2008) Impact of the Teacher Advancement Program on student test score gains: Findings from an independent appraisal.” Nashville: National Center for Performance Incentives.

⁸ Chiang, H., Wellington, A., Hallgren, K., Speroni, C., Herrmann, M., Glazerman, S., and Constantine, J. (2015). Evaluation of Teacher Incentive Fund: Implementation and impacts of pay-for-performance after two years (NCEE 2015-4020). Washington, DC: National Center for Education Evaluation and Regional Assistance, Institute of Education Sciences, U.S. Department of Education.

• Educator preparation ⁹

⁹ Silva, Tim, Allison McKie, Virginia Knechtel, Philip Gleason, Libby Makowsky. (2014, available at https://ies.ed.gov/ncee/pubs/20154015/) Teaching Residency Programs: A Multisite Look at a New Model to Prepare Teachers for High-Need Schools (NCEE 2015-4002). Washington, DC: National Center for Education Evaluation and Regional Assistance, Institute of Education Sciences, U.S. Department of Education.

• Recruitment

• Educator Induction ¹⁰

¹⁰ Glazerman, S., Dolfin, S., Bleeker, M., Johnson, A., Isenberg, E., Lugo-Gil, J., Grider, M., & Britton, E. (2008). Impacts of comprehensive teacher induction: Results from the first year of a randomized controlled study (NCEE 2009-4034) (available at http://ies.ed.gov/ncee/wwc/Study/67264. Washington, DC: National Center for Education Evaluation and Regional Assistance, Institute of Education Sciences, U.S. Department of Education.

• Retention ¹¹

¹¹ Allen, J.P., Pianta, R.C., Gregory, A., Mikami, A.Y., & Lun, J. (2011). An interaction-based approach to enhancing secondary school instruction and student achievement. Science, 333(6045), 1034-1037 (available at https://www.ncbi.nlm.nih.gov/pubmed/21852503); New findings on the retention of novice teachers from teaching residency programs Extending work from earlier study.

• Mentoring ¹²

¹² Allen, J.P., Pianta, R.C., Gregory, A., Mikami, A.Y., & Lun, J. (2011). An interaction-based approach to enhancing secondary school instruction and student achievement. Science, 333(6045), 1034-1037.

(k) A description of how grant activities will be evaluated, monitored, and reported to the public.

Note: In addition, under 34 CFR 75.591, all TSL grantees must cooperate in any evaluation of the program conducted by the Department.

IV. Application and Submission Information

1. Address to Request Application Package: Orman Feres, U.S. Department of Education, 400 Maryland Avenue SW., Room 453-6921 4W109, Washington, DC 20202-6200. Telephone: (202) 453-6921 or by email: TSL@ed.gov.

If you use a telecommunications device for the deaf (TDD) or a text telephone (TTY), call the Federal Relay Service (FRS), toll free, at 1-800-877-8339.

Individuals with disabilities can obtain a copy of the application package in an accessible format (e.g., braille, large print, audiotape, or compact disc) by contacting the program contact person listed in this section.

2. Content and Form of Application Submission: Requirements concerning the content and form of an application, together with the forms you must submit, are in the application package for this program.

Notice of Intent to Apply: We will be able to develop a more efficient process for reviewing grant applications if we can anticipate the number of applicants that intend to apply for funding under this competition. Therefore, we strongly encourage each potential applicant to notify us of the applicant's intent to submit an application for funding by sending a short email message. This short email should provide (1) the applicant organization's name and address; and (2) all priorities the applicant intends to address. Please send this email notification to TSL@ed.gov with “Intent to Apply” in the email subject line. Applicants that do not provide this email notification may still apply for funding and are not required to, or prohibited from, addressing priorities they do not mention in their notice of intent to apply.

Page Limit: The application narrative is where you, the applicant, address the selection criteria that reviewers use to evaluate your application. Applicants should limit the application narrative to no more than 40 pages, using the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Calibri, or Arial.

The suggested page limit does not apply to the cover sheet; the budget section, including the narrative budget justification; the assurances and certifications; or the one-page abstract, the resumes, the bibliography, or the letters of support. However, the suggested page limit does apply to all of the application narrative.

b. Submission of Proprietary Information: Given the types of projects that may be proposed in applications for TSL, an application may include business information that the applicant considers proprietary. The Department's regulations define “business information” in 34 CFR 5.11.

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Submission Dates and Times:

Applications Available: December 20, 2016.

Deadline for Notice of Intent to Apply: February 4, 2017.

Deadline for Transmittal of Applications: March 24, 2017.

Pre-application workshops will be held for this competition shortly after the date that this notice will publish. The workshops are intended to provide technical assistance to all interested grant applicants. Detailed information regarding the pre-application workshops times, and online registration form, can be found on the TSL Web site at: http://innovation.ed.gov/what-we-do/teacher-quality/teacher-incentive-fund/.

Applications for grants under this program must be submitted electronically using the Grants.gov Apply site (Grants.gov). For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: April 23, 2017.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements:

Applications for grants under this program must be submitted electronically unless you qualify for an exception to this requirement in accordance with the instructions in this section.

a. Electronic Submission of Applications.

Applications for grants under TSL, CFDA number 84.374A, must be submitted electronically using the Government-wide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the TSL competition at www.Grants.gov.You must search for the downloadable application package for this program by the CFDA number. Do not include the CFDA number's alpha suffix in your search (e.g., search for 84.374, not 84.374A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a read-only, non-modifiable Portable Document Format (PDF). Do not upload an interactive or fillable PDF file. If you upload a file type other than a read-only, non-modifiable PDF (e.g., Word, Excel, WordPerfect, etc.) or submit a password-protected file, we will not review that material. Please note that this could result in your application not being considered for funding because the material in question—for example, the application narrative—is critical to a meaningful review of your proposal. For that reason it is important to allow yourself adequate time to upload all material as PDF files. The Department will not convert material from other formats to PDF.

• Your electronic application must comply with any page-limit requirements described in this notice.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only, non-modifiable PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because--

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Orman Feres, U.S. Department of Education, 400 Maryland Avenue SW., Room 4W109, Washington, DC 20202-6200. FAX: (202) 260-8969.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.374A), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.374A), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: We are establishing the selection criterion “The extent to which the proposed project demonstrates a rationale” and criterion (c)(3) for the FY 2017 grant competition only, in accordance with section 437(d)(1) of GEPA, 20 U.S.C. 1232(d)(1). The other selection criteria for this program are from 34 CFR 75.210.

The maximum score for all the selection criteria is 100 points. The maximum score for each criterion is indicated in parentheses. The selection criteria for this competition are as follows:

(a) Evidence of Support(30 points).

In determining evidence of support of the proposed project, the Secretary considers the following factors:

(1) The extent to which the proposed project is part of a comprehensive effort to improve teaching and learning and support rigorous academic standards for students.

(2) The extent to which the services to be provided by the proposed project involve the collaboration of appropriate partners for maximizing the effectiveness of project services.

(3) The extent to which the proposed project will integrate with or build on similar or related efforts to improve relevant outcomes (as defined in 34 CFR 77.1(c)), using existing funding streams from other programs or policies supported by community, State, and Federal resources.

(b) Need for Project (25 points).

In determining the need for the proposed project, the Secretary considers the following factors:

(1) The extent to which the proposed project will provide services or otherwise address the needs of students at risk of educational failure.

(2) The extent to which specific gaps or weaknesses in services, infrastructure, or opportunities have been identified and will be addressed by the proposed project, including the nature and magnitude of those gaps or weaknesses.

(c) Quality of the Project Design (20 points).

In determining the quality of the project design of the proposed project, the Secretary considers the following factors:

(1) The extent to which the proposed project demonstrates a rationale.

(2) The extent to which the design of the proposed project is appropriate to, and will successfully address, the needs of the target population or other identified needs.

(3) The extent to which the grant activities will be evaluated, monitored, and reported to the public.

(d) Quality of the management plan (20 points).

In determining the quality of the management plan for the proposed project, the Secretary considers the adequacy of the management plan to achieve the objectives of the proposed project on time and within budget, including clearly defined responsibilities, timelines, and milestones for accomplishing project tasks.

(e) Adequacy of resources (5 points).

The Secretary considers the adequacy of resources for the proposed project based on the following factors:

(1) The potential for continued support of the project after Federal funding ends, including, as appropriate, the demonstrated commitment of appropriate entities to such support.

(2) The potential for the incorporation of project purposes, activities, or benefits into the ongoing program of the agency of organization at the end of the Federal funding.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department of Education (34 CFR 100.4, 104.5, 106.4, 108.8, and 110.23).

3. Risk Assessment and Special Conditions: Consistent with 2 CFR 200.205, before awarding grants under this program the Department conducts a review of the risks posed by applicants. Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

(d) By reporting on these performance measures in annual and final performance reports, grantees will satisfy the requirement in Section 8101 (21)(A)(ii)(II) of the ESEA, as amended, for projects relying on the “demonstrates a rationale” evidence level, to have “ongoing efforts to examine the effects” of the funded activity, strategy, or intervention.

4. Performance Measures: Pursuant to the Government Performance and Results Act of 1993, the Department has established the following performance measures that it will use to evaluate the overall effectiveness of the grantee's project, as well as the TIF program as a whole:

(a) The percentage of Educators in all schools who earned Performance-Based Compensation.

(b) The percentage of Educators in all High-Need Schools who earned Performance-Based Compensation.

(c) The gap between the retention rate of Educators receiving Performance-Based Compensation and the average retention rate of Educators in each High-Need School whose Educators participate in the project.

(d) The number of school districts participating in a TSL grant that use Educator Evaluation and Support Systems to inform the following human capital decisions: recruitment; hiring; placement; retention; dismissal; professional development; tenure; promotion; or all of the above.

(e) The number of High-Need Schools within districts participating in a TSL grant that use Educator Evaluation and Support Systems to inform the following human capital decisions: recruitment; hiring; placement; retention; dismissal; professional development; tenure; promotion; or all of the above.

(f) The percentage of Performance-Based Compensation paid to Educators with State, local, or other non-TIF Federal resources.

(g) The percentage of teachers and principals who receive the highest effectiveness rating.

(h) The percentage of teachers and principals in High-Needs Schools who receive the highest effectiveness rating.

5. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Orman Feres, U.S. Department of Education, 400 Maryland Avenue SW., Room 4W109, Washington, DC 20202-6200. Telephone: (202) 453-6921 or by email: TSL@ed.gov.

If you use a TDD or a TTY, call the FRS, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Nadya Chinoy Dabby,
Assistant Deputy Secretary for Office of Innovation and Improvement.

[FR Doc. 2016-30643 Filed 12-19-16; 8:45 am]

BILLING CODE 4000-01-P